DEPARTMENT OF TRANSPORTATION

Federal Aviation Administration

Receipt of Noise Compatibility Program Update/Revised Five-Year Forecast Condition NEM and Request for Review for Lehigh Valley International Airport, Allentown, PA

AGENCY: Federal Aviation Administration, DOT.

ACTION: Notice.

SUMMARY: The Federal Aviation Administration (FAA) announces that it is reviewing a revised noise compatibility program and revised five-year forecast condition NEM submitted by the Lehigh-Northampton Airport Authority for Lehigh Valley International Airport under the provisions of Title I of the Aviation Safety and Noise Abatement Act of 1979 (Pub. L. 96-193) and 14 CFR part 150. This program was submitted subsequent to a determination by the FAA that the associated updated noise exposure maps submitted under 14 CFR part 150 for Lehigh Valley International Airport were in compliance with applicable requirements effective May 14, 2004. The proposed noise compatibility program update and revised five-year forecast condition NEM will be approved or disapproved on or before October 9, 2005.

DATES: The effective date of the start of FAA's review of the noise compatibility program update and revised five-year forecast condition is April 12, 2005. The public comment period ends, June 11, 2005.

FOR FURTHER INFORMATION CONTACT: Edward S. Gabsewics, CEP, Environmental Protection Specialist, Federal Aviation Administration, Harrisburg Airports District Office, 3905 Hartzdale Drive, Suite 508, Camp Hill, PA 17011, telephone (717) 730-2832. Comments on the proposed noise compatibility program update and revised five-year forecast condition NEM should also be submitted to the above office.

SUPPLEMENTARY INFORMATION: This notice announces that the FAA is reviewing a proposed noise compatibility program update and revised five-year forecast condition NEM for the Lehigh Valley International Airport, which will be approved or disapproved on or before October 9, 2005. This notice also announces the availability of this proposed noise compatibility program update and revised five-year forecast condition NEB for public review and comment.

An airport operator who has submitted noise exposure maps that are found by FAA to be in compliance with the requirements of Federal Aviation Regulations (FAR) part 150, promulgated pursuant to Title I of the Act, may submit a noise compatibility program for FAA approval which sets forth the measures the operator has taken or proposes for the reduction of existing noncompatible uses and for the prevention of the introduction of additional noncompatible uses.

The FAA has formally received the noise compatibility program update and revised five-year forecast condition NEM for the Lehigh Valley International Airport, effective on April 12, 2005. It was requested that the FAA review this material and that the noise mitigation measures, to be implemented jointly by the airport and surrounding communities, be approved as a noise compatibility program update under section 104(b) of the Act. Preliminary review of the submitted material indications that it conforms to the requirements for the submittal of noise compatibility programs, but that further review will be necessary prior to approval or disapproval of the program. The formal review period, limited by law to a maximum of 180 days, will be completed on or before October 9, 2005.

The FAA's detailed evaluation will be conducted under the provisions of 14 CFR part 150, section 150.33. The primary considerations in the evaluation process are whether the proposed measures may reduce the level of aviation safety, create an undue burden on interstate or foreign commerce, or be reasonably consistent with obtaining the goal of reducing existing noncompatible land uses and preventing the introduction of additional noncompatible land uses.

Interested persons are invited to comment on the proposed program with specific reference to these factors. All comments, other than those properly addressed to local land use authorities, will be considered by the FAA to the extent practicable. Copies of the proposed noise compatibility program update and proposed revised five-year forecast conditions NEM for the Lehigh Valley International Airport are available for examination at the following locations: Lehigh—Northampton Airport Authority, 3311 Airport Road, Allentown, PA 18109 and Federal Aviation Administration, Harrisburg Airports District Office, 3905 Hartzdale Drive, Suite 508, Camp Hill, PA 17011.

Questions may be directed to the individual named above under the heading, FOR FURTHER INFORMATION CONTACT.

Issued in Camp Hill, Pennsylvania, April 12, 2005.
Wayne T. Heibeck,
Manager, Harrisburg Airports District Office.

[FR Doc. 05-7827 Filed 4-19-05; 8:45 am]

BILLING CODE 4910-13-M